DEPARTMENT OF TRANSPORTATION

Federal Aviation Administration

Public Notice for Waiver of Aeronautical Land-Use Assurance; Presque Isle County/Rogers City Airport, Rogers City, MI

AGENCY: Federal Aviation Administration, DOT.

ACTION: Notice of intent of waiver with respect to land.

SUMMARY: The Federal Aviation Administration (FAA) is considering a proposal to change a portion of the airport from aeronautical use to non-aeronautical use and to authorize the sale of the airport property. The proposal consists of one parcel totaling approximately 7.13 acres. Current use and present conditions is undeveloped vacant land. The land was originally sold to the County from Bradley Reality Company, December 27, 1935. There are no impacts to the airport by allowing the airport to dispose of the property. The proposed land will be used to provide a road right-of-way on the south property line that will enhance airport use, revenue and provide access for a future industrial park. Approval does not constitute a commitment by the FAA to financially assist in the disposal of the subject airport property nor a determination of eligibility for grant-in-aid funding from the FAA. The disposition of proceeds from the disposal of the airport property will be in accordance FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before August 22, 2003.

FOR FURTHER INFORMATION CONTACT: Ms. Stephanie Swann, Program Manager, Federal Aviation Administration, Great Lakes Region, Detroit Airports District Office, DET ADO-613, Metro Airport Center, 11677 South Wayne Road, Suite 107, Romulus, Michigan 48174. Telephone Number: 734-229-2945/FAX Number: 734-229-2950. Documents reflecting this FAA action may be reviewed at this same location or at Presque Isle County/Roger City Airport, Roger City, Michigan.

SUPPLEMENTARY INFORMATION: Following is a legal description of the property located in Roger City, County of Presque Isle, Michigan, and described as follows:

A parcel of land in Rogers Township, Presque Isle county, State of Michigan, described as commencing at the Southwest corner of section 22, T35N, R5E; thence easterly 1,098.77 feet along the south section line of said section to the point of beginning: thence N 26°29′35″ W, along the east R.O.W. of US-23 76.79 feet; thence N 87°51′37″ E, 632.77 feet; thence N 02°06′33″ W, 30 feet; thence N 87°51′37″ E, 970.34 feet; thence N 87°51′25″ E, 1345.12′; thence S 01°05′26″ E, 100,00 feet; thence S 87°51′25″ W, 1343.29 feet; thence S 87°51′37″ W, 836.54 feet; thence S 02°06′33″ E, 50 feet; thence S 87°51′37” W, 712.25 feet; thence N 26°29′35″ W, 54.91 feet to the point of beginning. Said parcel contains approximately 7.13 acres.

Issued in Romulus, Michigan on June 2, 2003.
Irene R. Porter,
Manager, Detroit Airports District Office, FAA, Great Lakes Region.

[FR Doc. 03-18386 Filed 7-22-03; 8:45 am]

BILLING CODE 4910-13-M